DEPARTMENT OF ENERGY

Federal Energy Regulatory Commission

[Docket No. ER00-3444-001]

Sempra Energy Solutions; Notice of Filing

October 24, 2000.

Take notice that on October 12, 2000, Sempra Energy Solutions, tendered for filing proposed designations for its revised FERC Electric Rate Schedule No. 1 in its FERC Electric Service Tariff pursuant to Commission Order No. 614.

The proposed designations are tendered pursuant to a letter order issued September 12, 2000 under authority delegated to Michael C. McLaughlin, Director, Division of Corporate Applications.

Copies of the filing were served upon the official service lists in Docket Nos. ER96-2372-018, ER98-3515-000 and ER00-3444-000, and on the California Public Utilities Commission.

Any person desiring to be heard or to protest such filing should file a motion to intervene or protest with the Federal Energy Regulatory Commission, 888 First Street, Commission's Rules of Practice and Procedure (18 CFR 385.211 and 385.214). All such motions and protests should be filed on or November 2, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at ­ http://www.ferc.fed.us/efi/doorbell.htm.

Linwood A. Watson, Jr.,
Acting Secretary.

[FR Doc. 00-27772 Filed 10-27-00; 8:45 am]

BILLING CODE 6717-01-M